Title 3—

The President

Executive Order 13218 of June 20, 2001

21st Century Workforce Initiative

By the authority vested in me as President by the Constitution and laws of the United States of America, including the Federal Advisory Committee Act, as amended (5 U.S.C. App.), and in order to promote the study and the development of strategies to address the needs of the 21st century workforce, it is hereby ordered as follows:

Section 1. Establishment of the Office of the 21st Century Workforce. (a) The Secretary of Labor is hereby directed to establish within the Department of Labor the Office of the 21st Century Workforce. The Office shall provide a focal point for the identification and study of issues relating to the workforce of the United States and the development of strategies for effectively addressing such issues.

(b) The Office of the 21st Century Workforce shall gather and disseminate information relating to workforce issues by conducting summits, conferences, field hearings, meetings, and other appropriate forums designed to encourage the participation of organizations and individuals interested in such issues, including business and labor organizations, academicians, employers, employees, and public officials at the local, State, and Federal levels.

(c) Among the issues to be addressed by the Office of the 21st Century Workforce shall be the identification of the ways in which the Department of Labor may streamline and update the information and services made available to the workforce by the Department; eliminate duplicative or overlapping rules and regulations; and eliminate statutory and regulatory barriers to assisting the workforce in successfully adapting to the challenges of the 21st century.

Sec. 2. Establishment of the Council on the 21st Century Workforce.

(a) Establishment and Composition of the Council.

(i) There is hereby established the “President's Council on the 21st Century Workforce” (Council).

(ii) The Council shall be composed of not more than 13 members who shall be appointed by the President. The membership shall include individuals who represent the views of business and labor organizations, Federal, State, and local governments, academicians and educators, and such other associations and entities as the President determines are appropriate. In addition, the Secretary of Labor and the Director of the Office of Personnel Management shall serve as ex officio members representing the views of the Federal Government. The Secretary of Labor shall be the Chairperson of the Council.

(b) Functions of the Council. The Council shall provide information and advice to the President through the Secretary of Labor, the Office of the 21st Century Workforce within the Department of Labor, and other appropriate Federal officials relating to issues affecting the 21st century workforce. These activities shall include:

(i) assessing the effects of rapid technological changes, demographic trends, globalization, changes in work processes, and the need for new and enhanced skills for workers, employers, and other related sectors of society;

(ii) examining current and alternative approaches to assisting workers and employers in adjusting to and benefitting from such changes, including opportunities for workplace education, retraining, access to assistive technologies and workplace supports, and skills upgrading;

(iii) identifying impediments to the adjustment to such changes by workers and employers and recommending approaches and policies that could remove those impediments;

(iv) assisting the Office of the 21st Century Workforce in reviewing programs carried out by the Department of Labor and identifying changes to such programs that would stream line and update their effectiveness in meeting the needs of the workforce; and

(v) analyzing such additional issues relating to the workforce and making such reports as the President or the Secretary of Labor may request.

(c) Administration of the Council.

(i) The Council shall meet on the call of the Chairperson, at a time and place designated by the Chairperson. The Chairperson may form subcommittees or working groups within the Council to address particular matters.

(ii) The Council may from time to time prescribe such procedures and policies relating to the activities of the Council as are not inconsistent with law or with the provisions of this order.

(iii) Each member of the Council who is not an officer or employee of the Federal Government shall serve without compensation but shall be allowed travel expenses, including per diem in lieu of subsistence, as authorized by law for persons serving intermittently in Federal service (5 U.S.C. 5701-5707).

(iv) The Department of Labor shall make available appropriate funding and administrative support to assist the Council in carrying out the functions under this section, including necessary office space, equipment, supplies, staff, and services. The Secretary of Labor shall perform the functions of the President under the Federal Advisory Committee Act (5 U.S.C. App.), as amended, except that of reporting to the Congress, with respect to the Council in accordance with the guidelines and procedures established by the Administrator of General Services.

(v) The heads of executive agencies shall, to the extent permitted by law, provide the Council with such information as it may require for purposes of carrying out the functions described in this section.

(d) Termination of the Council. The Council shall terminate 2 years from the date of this order unless extended by the President prior to such date.

Sec. 3. Effect on Prior Orders.

(a) Amendments to Executive Order 13111 of January 12, 1999. In order to ensure the coordination and nonduplication of advice and information regarding 21st century workforce issues, section 6 of Executive Order 13111, relating to the functions of the Advisory Committee on Expanding Training Opportunities, is amended to read as follows:

“Sec. 6. Functions of the Advisory Committee. The Committee shall provide the President, through the Secretary of Labor (who shall ensure the coordination of the activities of the Committee with the activities undertaken pursuant to sections 1 and 2 of the Executive Order on the 21st Century Workforce Initiative), an independent assessment of:

(1) progress made by the Federal Government in its use and integration of technology in adult training programs, particularly in addressing the problems of adult illiteracy;

(2) how Federal Government programs, initiatives, and policies can encourage or accelerate training technology to provide more accessible, more timely, and more cost- effective training opportunities for all Americans;

(3) mechanisms for the Federal Government to widely deploy and utilize technology-mediated instruction so all Americans may take advantage of opportunities provided by learning technology;

(4) the appropriate Federal Government role in research and development for learning technologies and their applications in order to develop high-quality training and education opportunities for all Americans; and

(5) such other issues regarding emerging technologies in government training as specified by the Secretary of Labor.”

(b) Revocation of Executive Order 13174. Executive Order 13174 of October 27, 2000, relating to the establishment of the Commission on Workers, Communities, and Economic Change in the New Economy, is revoked.

B

THE WHITE HOUSE,

June 20, 2001.

[FR Doc. 01-15958

Filed 6-21-01; 8:45 am]

Billing code 3195-01-P